GENERAL SERVICES ADMINISTRATION

Travel and Transportation Policy Division; Construction Cancellation of a Standard Form

AGENCY: Office of Governmentwide Policy, General Services Administration.

ACTION: Notice.

SUMMARY: The General Services Administration, Office of Governmentwide Policy is cancelling the constructions of the following Standard Form because of low user demand:

SF 1169, U.S. Government Transportation Requests (2-part set) (identified by NSN 7540-00-634-4363) and (4-part set book) (identified by NSN 7540-00-634-4365). The 4-part single set version (identified by NAN 7540-00-985-8038) of this form is still available from FSS.

FOR FURTHER INFORMATION CONTACT: General Services Administration, Forms Management, (202) 501-0581.

DATES: Effective December 5, 2000.

Dated: October 30, 2000.
Barbara M. Williams,
Deputy Standard and Optional Forms Management Officer.

[FR Doc. 00-30899 Filed 12-4-00; 8:45 am]

BILLING CODE 6820-34-M